DEPARTMENT OF AGRICULTURE

Food and Nutrition Service

Agency Information Collection Activities: Proposed Collection; Comment Request; Negative QC Review Schedule; Status of Sample Selection and Completion

AGENCY: Food and Nutrition Service, USDA.

ACTION: Notice.

SUMMARY: In accordance with the Paperwork Reduction Act of 1995, this notice invites the general public and other public agencies to comment on the proposed information collections for the FNS-245, Negative Case Action Review Schedule and the FNS-248, Status of Sample Selection and Completion. The two forms are currently used in the Quality Control process for the Food Stamp Program. The proposed collections are revisions of collections currently approved under OMB No. 0584-0034.

DATES: Written comments must be submitted on or before May 1, 2006.

ADDRESSES: Comments are invited on: (a) Whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including through the use of appropriate automated, electronic, mechanical, or other technological collection techniques or other forms of information technology. Send comments and requests for copies of this information collection to: Daniel Wilusz, Chief, Quality Control Branch, Program Accountability Division, Food and Nutrition Service, U.S. Department of Agriculture, 3101 Park Center Drive, Room 822, Alexandria, VA 22302. You may fax comments on this notice to (703) 305-0928. An electronic version of this notice may be downloaded at http://www.fns.usda.gov/fsp/rules/Regulations/default.htm. Comments may be submitted via the Internet at the same address and will receive an electronic confirmation upon receipt.

All responses to this notice will be summarized and included in the request for OMB approval. All comments will also become a matter of public record.

FOR FURTHER INFORMATION CONTACT: Daniel Wilusz, (703) 305-2460.

SUPPLEMENTARY INFORMATION: Title: Negative QC Review Schedule; Status of Sample Selection and Completion.

OMB Number: 0584-0034.

Form Number: FNS-245 & FNS-248.

Expiration Date: 07/31/06.

Type of Request: Revision of currently approved collections.

Abstract: The FNS-245, Negative Case Action Review Schedule, is designed to collect quality control (QC) data and serve as the data entry form for negative case action QC reviews in the Food Stamp Program. State agencies complete the FNS-245 for each negative case in their QC sample. The reporting and recordkeeping burden associated with the completion of the FNS-245 is being reduced from 123,026 hours to 121,572 hours. The decrease is the result of a reduction of the total case selection from 40,262 cases in FY 2001 to 39,782 cases in FY 2004. The FNS-248, Status of Sample Selection and Completion, tracks a State's progress in sample selection and case completion on a monthly basis. A proposed rule entitled “Food Stamp Program: Discretionary Quality Control Provisions of Title IV of Public Law 107-171”, was published in the Federal Register on September, 23, 2005. The rulemaking proposed to eliminate this form as a means of collecting this information and would allow State agencies to report in a manner as directed by the regional offices. FNS expects to publish a final rule on this subject in October 2006. Until then, FNS-248 will remain in effect. The burden associated with the collection remains unchanged.

Affected Public: Individuals or households; State or local governments.

Estimated Number of Respondents: 53.

Number of Responses Per Respondent: 751.

Total Number of Responses: 39,782.

Estimated Reporting Time Per Response: 3.03 Hours.

Estimated Reporting Annual Burden: 120,618 Hours.

Number of Recordkeepers: 53.

Annual Hours Per Recordkeeper: 18.

Estimated Recordkeeping Annual Burden: 954 Hours.

Total Annual Reporting and Recordkeeping Burden: 121,572 Hours.

Dated: February 21, 2006
Roberto Salazar,
Administrator.

[FR Doc. E6-2811 Filed 2-27-06; 8:45 am]

BILLING CODE 3410-30-P